DEPARTMENT OF THE INTERIOR

Bureau of Land Management

[AK-930-04-1310-DB]

Notice of Extension of Comment Period for the Alpine Satellite Development Plan, Draft Environmental Impact Statement; National Petroleum Reserve-Alaska, and Colville River Delta

AGENCY: Bureau of Land Management, Interior.

ACTION: Notice of Extension of Comment Period for the Alpine Satellite Development Plan, Draft Environmental Impact Statement; National Petroleum Reserve-Alaska, and Colville River Delta.

SUMMARY: The Bureau of Land Management (BLM) announces an extension of the comment period on the Alpine Satellite Development Plan Draft Environmental Impact Statement (DEIS). The original notice issued January 16, 2004 provided for a comment period to end on March 1, 2004. BLM is extending the comment period for one week to March 8, 2004.

FOR FURTHER INFORMATION CONTACT: Jim Ducker, BLM Alaska State Office, 907-271-3130; email Jim_Ducker@ak.blm.gov.

SUPPLEMENTARY INFORMATION: The original Notice of Availability issued on January 16, 2004 provided for comments on the Draft EIS to be received through March 1. The North Slope Borough, the local government for the plan area, has requested a one-week extension in the comment period. BLM has decided to accede to the borough's request. Comments on the Draft EIS and on issues relevant to the review of the proposed project by the cooperating agencies will now be accepted through March 8.

Dated: March 2, 2004.
Peter Ditton,
Associate State Director.

[FR Doc. 04-5229 Filed 3-8-04; 8:45 am]

BILLING CODE 4310-AG-M